DEPARTMENT OF JUSTICE

Notice of Proposed Settlement Agreement Under the Oil Pollution Act

On January 9, 2018, a fully-executed proposed Settlement Agreement was received by the Department of Justice, among the United States on behalf of the U.S. Department of the Interior, U.S. Fish and Wildlife Service (“FWS”), the State of Georgia, on behalf of the Georgia Department of Natural Resources (“GDNR”), and Fukunaga Kaiun Co., Ltd., a Japanese company that was the former operator of the Motor Vessel Fortune Epoch in November 2004.

The Settlement Agreement resolves certain claims by the FWS and GDNR for natural resource damages resulting from a November 2004 oil spill from the M/V Fortune Epoch near Tybee Island, Georgia. The Settlement Agreement requires Fukunaga Kaiun Co., Ltd. to pay $775,000 to pay the FWS and GDNR, the natural resource trustees (“Trustees”) for this matter, for past assessment costs and for the joint benefit and use of the Trustees to pay for Trustee-sponsored natural resource restoration efforts.

The publication of this notice opens a period for public comment on the proposed Settlement Agreement. Comments should be addressed to the Assistant Attorney General, Environment and Natural Resources Division, and should refer to United States and State of Georgia's Settlement Agreement with Fukunaga Kaiun Co. Ltd., D.J. Ref. No. 90-5-1-1-10825. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed Settlement Agreement may be examined and downloaded at this Justice Department website: https://www.justice.gov/enrd/consent-decrees. We will provide a paper copy of the proposed Settlement Agreement upon written request and payment of reproduction costs. Please mail your request and payment to: Consent Decree Library, U.S. DOJ—ENRD, P.O. Box 7611, Washington, DC 20044-7611.

Please enclose a check or money order for $4 (25 cents per page reproduction cost) payable to the United States Treasury.

Henry S. Friedman,
Assistant Section Chief, Environmental Enforcement Section, Environment and Natural Resources Division.

[FR Doc. 2018-00811 Filed 1-17-18; 8:45 am]

BILLING CODE 4410-15-P